ENVIRONMENTAL PROTECTION AGENCY

[FRL-7442-7]

Good Neighbor Environmental Board Meeting

AGENCY: Environmental Protection Agency (EPA).

ACTION: Notice of meeting.

SUMMARY: The next meeting of the Good Neighbor Environmental Board, a federal advisory committee that reports to the President and Congress on environmental and infrastructure projects along the U.S. border with Mexico, will take place in Washington, D.C. on February 18 and 19, 2003. It is open to the public.

DATES: On February 18, a special half-day session called “Border Environmental Forecast 2003” will begin at 9 a.m. (registration at 8:30 a.m.) and end at 12 noon, followed by the Board's Strategic Planning Session from 2 p.m to 5:30 p.m. On February 19, the Board will hold its routine business meeting from 8 a.m. to 12 noon. A pre-meeting orientation session for new members will take place from 4-6 p.m. on February 17.

ADDRESSES: The meeting site is the Hotel Washington located at the corner of 15th St. NW. and Pennsylvania Ave. (515 15th Street, NW., Pennsylvania Ave.) Washington, DC 20004.

The closest metro is Metro Center (on the Red Line).

FOR FURTHER INFORMATION CONTACT: Elaine M. Koerner, Designated Federal Officer for the Good Neighbor Environmental Board, Office of Cooperative Environmental Management, Office of the Administrator, USEPA, MC1601A, 1200 Pennsylvania Ave. NW., Washington, DC 20004, (415) 972-3437, koerner.elaine@epa.gov.

Meeting Access: Individuals requiring special accommodation at this meeting, including wheelchair access to the conference room, should contact the Designated Federal Officer at least five business days prior to the meeting so that appropriate arrangements can be made.

SUPPLEMENTARY INFORMATION: Agenda: The Border Environmental Forecast 2003 seminar is one of three activities scheduled for February 18 and 19. This three-hour expert Forecast seminar will begin at 9 a.m. (registration at 8:30 a.m.) and conclude at noon. In keeping with a similar session hosted last year, two panels of border-region experts will forecast the most pressing environmental challenges the border region will face in the year ahead. Immediately following the seminar, from 12 to 12:30 p.m. a public comment session will take place. During the afternoon of February 18, the Board will hold its annual Strategic Planning Session; a Road Map for the year ahead and criteria for measuring its effectiveness are among the products to be developed. The following morning, February 19, the Board will hold a routine business meeting. All of these activities are open to the public.

Public Attendance: The public is welcome to attend all portions of the meeting. Members of the public who plan to file written statements and/or make brief (suggested 5-minute limit) oral statements at the public comment session are encouraged to contact the Designated Federal Officer for the Board prior to the meeting.

Background: The Good Neighbor Environmental Board meets three times each calendar year at different locations along the U.S.-Mexico border and also holds an annual strategic planning session. It was created by the Enterprise for the Americans Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Public Law 92-463).

Dated: January 13, 2003.
Oscar Carrillo,
Acting Designate Federal Officer.

[FR Doc. 03-1627 Filed 1-23-03; 8:45 am]

BILLING CODE 6560-50-P